DEPARTMENT OF ENERGY

Federal Energy Regulatory Commission

[Docket Nos. EC06-4-001, et al.]

LG&E Energy LLC et al.; Electric Rate and Corporate Filings

January 17, 2006.

The following filings have been made with the Commission. The filings are listed in ascending order within each docket classification.

1. LG&E Energy LLC, Louisville Gas and Electric Company, et al.

[Docket Nos. EC06-4-001 and ER06-20-001]

Take notice that on January 10, 2006, LG&E Energy LLC, together with and on behalf of its public utility operating company subsidiaries Louisville Gas and Electric Company (collectively, Applicants), filed amendments to its application with the Commission seeking acceptance of certain rates, terms, and conditions necessary for them to: (1) Withdraw from the Midwest Independent Transmission System Operator, Inc., and regain operational control of their respective transmission system, (2) install a third party to act as reliability coordinator for their transmission facilities; and (3) install an independent third party to act as tariff administrator for their transmission system. Applicants state the amendments include finalized versions of their Independent Transmission System Organization and Reliability Coordinator Agreements, as well as a final version of Applicants' Withdrawal Agreement with the Midwest ISO.

Comment Date: 5 p.m. Eastern Time on January 25, 2006.

2. Duke Energy Marketing America, LLC, DTE Energy Trading, Inc.

[Docket No. EC06-62-000]

Take notice that on January 11, 2006, Duke Energy Marketing America, LLC (DEMA) and DTE Energy Trading, Inc. (DTE Energy) (collectively, Applicants) submitted an application pursuant to section 203 of the Federal Power Act for authorization of a disposition of jurisdictional facilities in which DEMA proposes to transfer to DTE Energy three wholesale electric power sales contracts. Applicants have requested privileged treatment for commercially-sensitive information contained in the Application.

Comment Date: 5 p.m. Eastern Time on February 2, 2006.

3. Duke Energy Trading and Marketing, L.L.C.

[Docket No. EC06-63-000]

Take notice that on January 12, 2006, Duke Energy Trading and Marketing, L.L.C. (DETM) submitted an application pursuant to section 203 of the Federal Power Act for authorization of a disposition of jurisdictional facilities in which DETM proposes to transfer to Morgan Stanley Capital Group Inc. two wholesale electric power sales contracts. DETM has requested privileged treatment for commercially-sensitive information contained in the Application.

Comment Date: 5 p.m. Eastern Time on February 3, 2006.

4. City of Azusa, California

[Docket No. EL06-23-000]

Take notice that on January 3, 2006, the City of Azusa, California submitted correction to its December 2, 2005 filing of third annual revision to its Transmission Revenue Balancing Account Adjustment.

Comment Date: 5 p.m. Eastern Time on January 27, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-692 Filed 1-20-06; 8:45 am]

BILLING CODE 6717-01-P